DEPARTMENT OF COMMERCE

National Oceanic and Atmospheric Administration

50 CFR Part 223

[I.D. No. 060204C]

Endangered and Threatened Species: Final Listing Determinations for Elkhorn Coral and Staghorn Coral; Correction

AGENCY: National Marine Fisheries Service (NMFS), National Oceanic and Atmospheric Administration (NOAA), Commerce.

ACTION: Final rule; correction.

SUMMARY: We, the National Marine Fisheries Service, are correcting a previously published Federal Register rule that contained inadequate data. The citations were inadvertently omitted from the table in this rule that published in the Federal Register on May 9, 2006.

DATES: This correction is effective June 2, 2006.

FOR FURTHER INFORMATION CONTACT: Marta Nammack, (301)713-1401.

SUPPLEMENTARY INFORMATION: In the May 9, 2006, issue of the Federal Register, we published a final rule to implement our determination to list elkhorn (Acropora palmata) and staghorn (A. cervicornis) corals as threatened species under the Endangered Species Act (ESA) of 1973. The table printed in this rule contained inadequate data.

§ 223.102 [Corrected]

On pages 26862 through 26872, correct the table in § 223.102 to read as follows:

BILLING CODE 3510-22-S

Authority: 16 U.S.C. 1531 1543; subpart B,§ 223.201-202 also issued under 16 U.S.C. 1361 et seq.; 16 U.S.C. 5503(d) for § 223.206(d)(9).

Dated: May 16, 2006.
John Oliver,
Deputy Assistant Administrator for Operations, National Marine Fisheries Service.

[FR Doc. 06-4988 Filed 6-1-06; 8:45 am]

BILLING CODE 3510-22-C